DEPARTMENT OF TRANSPORTATION

Federal Aviation Administration

RTCA Special Committee 186: Automatic Department Surveillance—Broadcast (ADS-B)

AGENCY: Federal Aviation Administration (FAA), DOT.

ACTION: Notice of RTCA Special Committee 186 meeting.

SUMMARY: The FAA is issuing this notice to advise the public of a meeting of RTCA Special Committee 186: Automatic Dependent Surveillance—Broadcast (ADS-B).

DATES: The meeting will be held June 12-16, 2006 starting at 9 a.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186 meeting. Note: Specific working group sessions will be held on June 12, 13, 14, 15.

• June 12:

• WG4/B STP Subgroup

• RFG-NRA

• RFG-AD

• June 13:

• WG4/B STP Subgroup

• RFG-NRA

• RFG-AD

• June 14:

• WG4/B ASAS MOPS-ASSAP Subgroup

• WG4/B STP Subgroup

• RFG-NRA

• RFG-AD

• June 15:

• WG4/B ASAS MOPS-ASSAP Subgroup

• WG4/B STP Subgroup

• RFG-NRA

• RFG-AD

Note:

AD-Application Development

ASAS-Aircraft Surveillance Applications System

ASSAP-Airborne Surveillance & Separation Assurance Processing

CDTI-Cockpit Display of Traffic Information

MOPS-Minimum Operational Performance Standards

NRA-Non-Radar Airspace

RFG-Requirements Focus Group

STP-Surveillance Transmit Processing

• June 16:

• Opening Plenary Session (Chairman's Introductory Remarks, Review of Meeting Agenda, Review/Approval of the Thirty Sixth Meeting Summary, RTCA Paper No. 090-06/SC-186-233,

• SC-186 Activity Reports:

• WG-1, Operations & Implementation

• WG-2, TIS-B

• WG-3, 1090 MHz MOPS

• WG-4, Application Technical Requirements

• WG-5, UAT MOPS

• WG-6, ADS-B MASPS

• Requirements Focus Group

• EUROCAE WG-51 Activity Report

• Final Review/Approval-STP MOPS, RTCA Paper No. 100-06/SC186-234

• Closing Plenary Session (New Business, Other Business, Review Action Items/Work Program, Date, Place, and Time of Next Meeting, Review Actions Items/Work Program, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, May 18, 2006.
Francisco Estrada C.,
RTCA Advisory Committee.

[FR Doc. 06-4860 Filed 5-24-06; 8:45 am]

BILLING CODE 4910-13-M